Title 3—

The President

Proclamation 8287

National Hispanic Heritage Month, 2008

By the President of the United States of America

A Proclamation

During National Hispanic Heritage Month, we recognize the many Americans of Hispanic descent who have made outstanding contributions to our Nation.

The rich cultural traditions of the Hispanic-American community have made a remarkable impact on American society. The diverse backgrounds of Hispanic Americans and their dedication to family have become an integral part of America. With a deep commitment to faith and a strong desire to live the American dream, these citizens are realizing the full blessings of liberty. Educational opportunities are helping a new generation work toward success, and many Hispanic Americans operate thriving small businesses.

We also honor Hispanic Americans for their strong tradition of service in the Armed Forces. These proud patriots have fought in every war since our founding, and many have earned the Medal of Honor for their courage. Hispanic service men and women have shown their love for the United States by answering the call to serve, and we owe them and their families a tremendous debt of gratitude. Their patriotism and valor have added to the character of our Nation.

National Hispanic Heritage Month is an opportunity to celebrate the spirit and accomplishments of Hispanic Americans everywhere. To honor those achievements, the Congress, by Public Law 100-402, as amended, has authorized and requested the President to issue annually a proclamation designating September 15 through October 15 as “National Hispanic Heritage Month.”

NOW, THEREFORE, I, GEORGE W. BUSH, President of the United States of America, by virtue of the authority vested in me by the Constitution and the laws of the United States, do hereby proclaim September 15 through October 15, 2008, as National Hispanic Heritage Month. I call upon public officials, educators, librarians, and all the people of the United States to observe this month with appropriate ceremonies, activities, and programs.

IN WITNESS WHEREOF, I have hereunto set my hand this twelfth day of September, in the year of our Lord two thousand eight, and of the Independence of the United States of America the two hundred and thirty-third.

[FR Doc. E8-21859

Filed 9-16-08; 8:45 am]

Billing code 3195-01-P